INTERNATIONAL TRADE COMMISSION

[Investigation Nos. 701-TA-499-500 and 731-TA-1215-1217 and 1219-1223 (Final)]

Certain Oil Country Tubular Goods From India, Korea, the Philippines, Taiwan, Thailand, Turkey, Ukraine, and Vietnam

Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is materially injured by reason of imports of certain oil country tubular goods from India, Korea, Turkey, Ukraine, and Vietnam, provided for in subheadings 7304.29, 7305.20, and 7306.29 of the Harmonized Tariff Schedule of the United States, that have been found by the Department of Commerce (“Commerce”) to be sold in the United States at less than fair value (“LTFV”) and to be subsidized by the governments of India and Turkey.² The Commission also determines, pursuant to section 735(b) of the Act, that an industry in the United States is threatened with material injury by reason of imports of certain oil country tubular goods from Taiwan that have been found by Commerce to be sold in the United States at LTFV.³

¹ The record is defined in sec. 207.2(f) of the Commission's Rules of Practice and Procedure (19 CFR 207.2(f)).

² All five participating Commissioners voted in the affirmative (Commissioner F. Scott Kieff did not participate in these investigations). The Commission also finds that imports subject to Commerce's affirmative critical circumstances determinations are not likely to undermine seriously the remedial effect of the countervailing duty orders on certain oil country tubular goods from India or Turkey. The Commission further finds that imports subject to Commerce's affirmative critical circumstances determinations are not likely to undermine seriously the remedial effect of the antidumping duty orders on certain oil country tubular goods from Turkey or Vietnam.

³ Chairman Meredith M. Broadbent dissenting with regard to imports from Taiwan, determining that subject imports from Taiwan are negligible.

The Commission further determines that imports of these products from the Philippines and Thailand are negligible pursuant to section 771(24) of the Act (19 U.S.C. 1677(24)), and its investigations with regard to these countries are thereby terminated pursuant to section 735(b) of the Act.

Background

The Commission instituted these investigations effective July 2, 2013, following receipt of a petition filed with the Commission and Commerce by United States Steel Corporation, Pittsburgh, PA; Maverick Tube Corporation, Houston, TX; Boomerang Tube LLC, Chesterfield, MO; Energex, a division of JMC Steel Group, Chicago, IL; Northwest Pipe Company, Vancouver, WA; Tejas Tubular Products Inc., Houston, TX; TMK IPSCO, Houston, TX; Vallourec Star, L.P., Houston, TX; and Welded Tube USA, Inc., Lackawanna, NY. The final phase of the investigations was scheduled by the Commission following notification of preliminary determinations by Commerce regarding the subsidization of imports of certain oil country tubular goods from India and Turkey within the meaning of section 703(b) of the Act (19 U.S.C. 1671b(b)) and sales at less than fair value of imports of certain oil country tubular goods from India, Korea, the Philippines, Taiwan, Thailand, Turkey, Ukraine, and Vietnam within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on April 7, 2014 (79 FR 19122). The hearing was held in Washington, DC, on July 15, 2014, and all persons who requested the opportunity were permitted to appear in person or by counsel.

The Commission completed and filed its determinations in these investigations on September 2, 2014. The views of the Commission are contained in USITC Publication 4489 (September 2014), entitled Certain Oil Country Tubular Goods from India, Korea, Philippines, Taiwan, Thailand, Turkey, Ukraine, and Vietnam (Investigation Nos. 701-TA-499-500 and 731-TA-1215-1217 and 1219-1223: (Final)).

By order of the Commission.
Issued: September 2, 2014.
Lisa R. Barton,
Secretary to the Commission.

[FR Doc. 2014-21174 Filed 9-4-14; 8:45 am]

BILLING CODE 7020-02-P